DEPARTMENT OF ENERGY

Federal Energy Regulatory Commission

[Docket No. RP01-376-000]

Portland Natural Gas Transmission System; Notice of Compliance Filing

April 18, 2001.

Take notice that on April 12, 2001 Portland Natural Gas Transmission System (PNGTS), tendered for filing as part of its FERC Gas Tariff First, Revised Volume No. 1, the following tariff sheets, to be effective May 1, 2001:

Second Revised Sheet No. 345

Second Revised Sheet No. 380

PNGTS states that the purpose of this filing is to comply with Order No. 587-M, issued by the Commission on November 30, 2000. The revised tariff sheets reflect certain Version 1.4 standards promulgated by the Gas Industry Standards Board which were adopted by the Commission and incorporated by reference in the Commission's Regulations.

PNGTS states that copies of the filing were mailed to all affected customers of PNGTS and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.is/online/rims.htm (call 202-208-2222 for assistance. Comments, protests, and interventions may be filed electronically via the internet in lieu of paper. See, 18 CFR 385.2001(a)(1)(iii) and the instructions on the Commission's web site at http://www.ferc.fed.us/efi/doorbell.htm.

David P. Boergers,
Secretary.

[FR Doc. 01-10036 Filed 4-23-01; 8:45 am]

BILLING CODE 6717-01-M